DEPARTMENT OF HEALTH AND HUMAN SERVICES

Meeting of the National Vaccine Program Office on Vaccine Financing

AGENCY: Department of Health and Human Services, Office of the Secretary.

ACTION: Notice.

SUMMARY: The Department of Health and Human Services (DHHS) is hereby giving notice that the National Vaccine Program Office (NVPO) will convene a meeting of the Vaccine Finance Working Group and is inviting input from stakeholders on this issue. The meeting will be open to the public.

DATES: The meeting will be held on Tuesday, April 29, 2008 and Wednesday, April 30, 2008. The meeting will be held from 9 a.m. to 5 p.m. on both days.

ADDRESSES: Hilton Washington DC/Rockville Hotel and Executive Meeting Center; 1750 Rockville Pike, Rockville, MD 20852-1699.

FOR FURTHER INFORMATION CONTACT: Angela Shen, National Vaccine Program Office, Department of Health and Human Services, Room 443-H, Hubert H. Humphrey Building, 200 Independence Avenue, SW., Washington, DC 20201; (202) 260-1587, or e-mail angela.shen@hhs.gov.

SUPPLEMENTARY INFORMATION: NVPO has responsibility for coordinating and ensuring collaboration among the many Federal agencies involved in vaccine and immunization activities. The NVPO provides leadership and coordination among Federal agencies, as they work together to carry out the goals of the National Vaccine Plan. The National Vaccine Plan provides a framework, including goals, objectives, and strategies, for pursuing the prevention of infectious diseases through immunizations. NVPO periodically convenes working groups to address specific issues and topics that impact vaccine and immunization.

The Vaccine Finance Working Group was established to address issues related to vaccine financing in the United States. The Working Group has developed a draft white paper with a number of policy options to be considered for presentation to the National Vaccine Advisory Committee (NVAC) for discussion. NVPO has charged the Vaccine Finance Working Group to obtain input from stakeholders whose viewpoints and interests can help shape an understanding of the issues that are relevant to the challenges in creating optimal approaches to vaccine financing in both the public and private sectors.

The two-day meeting is scheduled to be held to provide an opportunity for vaccine financing stakeholders to discuss and make comments on the draft white paper and to solicit input, in particular, regarding the conclusions and options made by the working group that are contained in the draft document. A wide range of stakeholders representing health care providers, employers, payers, health insurers, vaccine manufacturers and distributors, consumers, and other interested parties within the public health community are invited to attend the meeting. Members of the public will have the opportunity to provide comments at the meeting. Public comment will be limited to five minutes per speaker. Any members of the public who wish to have printed material distributed to meeting participants should submit materials to the NVPO staff person designated as the contact for additional information. All materials should be submitted to the designated point of contact no later than close of business April 21, 2008. Pre-registration is required for public comment. Any individual who wishes to participate in the public comment session should e-mail angela.shen@hhs.gov or call 202-690-5566.

There is limited space available for the public to attend this meeting. However, it is desired that the public participate in the discussions, as well. Registration is required to attend the meeting; registration information can be found at: https://nvpo.constellagroup.com. Registration for the meeting will be accepted until April 5, 2008. Registration after that date will be on the basis of space availability. Individuals who plan to attend and need special assistance, such as sign language interpretation or other reasonable accommodations, should notify the designated contact person.

Dated: March 24, 2008.
Bruce Gellin,
Director, National Vaccine Program Office.

[FR Doc. E8-6433 Filed 3-27-08; 8:45 am]

BILLING CODE 4150-44-P